DEPARTMENT OF THE INTERIOR

Bureau of Indian Affairs

[167 A2100DD/AAKC001030/A0A501010.999900]

Indian Gaming; Approval of Amendment to Tribal-State Class III Gaming Compact in the State of South Dakota

AGENCY: Bureau of Indian Affairs, Interior.

ACTION: Notice.

SUMMARY: The Oglala Sioux Tribe and State of South Dakota entered into an amendment to an existing Tribal-State compact governing Class III gaming. This notice announces approval of the amendment.

DATES: Effective April 22, 2016.

FOR FURTHER INFORMATION CONTACT: Ms. Paula L. Hart, Director, Office of Indian Gaming, Office of the Assistant Secretary—Indian Affairs, Washington, DC 20240, (202) 219-4066.

SUPPLEMENTARY INFORMATION: Section 11 of the Indian Gaming Regulatory Act (IGRA) requires the Secretary of the Interior to publish in the Federal Register notice of approved Tribal-State compacts that are for the purpose of engaging in Class III gaming activities on Indian lands. See Public Law 100-497, 25 U.S.C. 2701 et seq. All Tribal-State Class III compacts, including amendments, are subject to review and approval by the Secretary under 25 CFR 293.4. The amendment expands the scope of allowable games to include craps, keno and roulette. The amendment is approved. See 25 U.S.C. 2710(d)(8)(A).

Dated: April 13, 2016.
Lawrence S. Roberts,
Assistant Secretary—Indian Affairs.

[FR Doc. 2016-09328 Filed 4-21-16; 8:45 am]

BILLING CODE 4337-15-P